DEPARTMENT OF HOMELAND SECURITY

National Protection and Programs Directorate

[Docket No. DHS-2013-0043]

New Information Collection Request; General Meeting Registration and Evaluation

AGENCY: National Protection and Programs Directorate, DHS.

ACTION: 60-Day notice and request for comments; 1670-NEW.

SUMMARY: The Department of Homeland Security (DHS), National Protection and Programs Directorate (NPPD), Office of Cybersecurity and Communications (CS&C), Office of Emergency Communications (OEC) will submit the following Information Collection Request to the Office of Management and Budget (OMB) for review and clearance in accordance with the Paperwork Reduction Act of 1995 (Pub. L. 104-13, 44 U.S.C. Chapter 35). DHS is soliciting comments concerning the General Meeting Registration and Evaluation.

DATES: Comments are encouraged and will be accepted until January 28, 2014. This process is conducted in accordance with 5 CFR Part 1320.

ADDRESSES: Written comments and questions about this Information Collection Request should be forwarded to DHS/NPPD/CS&C/OEC, Attn.: Richard Reed, 202-343-1666, Richard.E.Reed@dhs.gov. Written comments should reach the contact person listed no later than January 28, 2014. Comments must be identified by “DHS-2013-0043” and may be submitted by one of the following methods:

• Federal eRulemaking Portal: http://www.regulations.gov.

• Email: Richard.E.Reed@dhs.gov. Include the docket number in the subject line of the message.

Instructions: All submissions received must include the words “Department of Homeland Security” and the docket number for this action. Comments received will be posted without alteration at http://www.regulations.gov, including any personal information provided.

SUPPLEMENTARY INFORMATION: OEC was formed under Title XVIII of the Homeland Security Act of 2002, 6 U.S.C. 101 et seq., as amended, to fulfill its statutory responsibility of conducting nationwide outreach through hosted events, including conferences, meetings, workshops, etc. The general registration form, general pre-meeting form, and general evaluation form will be used to gather information to support these events and for follow-up with stakeholders that attend such events. The registration, pre-meeting, and evaluation forms may be submitted electronically or in paper form.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Cybersecurity and Communications, Office of Emergency Communications.

Title: General Meeting Registration and Evaluation.

OMB Number: 1670-NEW.

General Registration Form

Frequency: On occasion.

Affected Public: State, local, or tribal government.

Number of Respondents: 5,000.

Estimated Time per Respondent: 10 minutes.

Total Burden Hours: 850 annual burden hours.

Total Burden Cost (capital/startup): $0.

Total Burden Cost (operating/maintaining): $22,457.

Pre-Meeting Survey

Frequency: On occasion.

Affected Public: State, local, or tribal government.

Number of Respondents: 5,000.

Estimated Time Per Respondent: 10 minutes.

Total Burden Hours: 850 annual burden hours.

Total Burden Cost (capital/startup): $0.

Total Burden Cost (operating/maintaining): $22,457.

Post-Meeting/Workshop/Training Evaluation

Frequency: On occasion.

Affected Public: State, local, or tribal government.

Number of Respondents: 5,000.

Estimated Time per Respondent: 15 minutes.

Total Burden Hours: 1,250 annual burden hours.

Total Burden Cost (capital/startup): $0.

Total Burden Cost (operating/maintaining): $33,025.

Dated: November 21, 2013.
Scott Libby,
Deputy Chief Information Officer, National Protection and Programs Directorate, Department of Homeland Security.

[FR Doc. 2013-28702 Filed 11-27-13; 8:45 am]

BILLING CODE 9910-9P-P